CONSUMER PRODUCT SAFETY COMMISSION

Sunshine Act Meeting Notice

TIME AND DATE: Wednesday, August 31, 2016, 10 a.m.-11.a.m.*

PLACE: Hearing Room 420, Bethesda Towers, 4330 East West Highway, Bethesda, Maryland.

STATUS: Commission Meeting—Open to the Public.

Matter To Be Considered

Decisional Matter: Fall 2016 Regulatory Agenda

A live webcast of the Meeting can be viewed at www.cpsc.gov/webcast.

CONTACT PERSON FOR MORE INFORMATION: Todd A. Stevenson, Office of the Secretary, U.S. Consumer Product Safety Commission, 4330 East West Highway, Bethesda, MD 20814, (301) 504-7923.

* The Commission unanimously determined by recorded vote that Agency business requires calling the meeting without seven calendar days advance public notice.

Dated: August 29, 2016.
Todd A. Stevenson,
Secretary.

[FR Doc. 2016-21076 Filed 8-29-16; 4:15 pm]

BILLING CODE 6355-01-P